GENERAL SERVICES ADMINISTRATION

41 CFR Part 102-74

[Notice-MA-2025-17; Docket No. 2025-0002; Sequence No.15]

Federal Management Regulation; Nondiscrimination Clarification in the Federal Workplace; Rescission

AGENCY: Office of Government-wide Policy (OGP); General Services Administration, (GSA).

ACTION: Notification of Rescission.

SUMMARY: GSA is rescinding the Federal Management Regulation (FMR) bulletin on Nondiscrimination Clarification in the Federal Workplace, which provided guidance on the interpretation of the prohibition against sex discrimination under various Federal civil rights laws. The rescission is based on E.O. 14168, Defending Women from Gender Ideology Extremism and Restoring Biological Truth to the Federal Government.

DATES: Applicability: May 9, 2025.

FOR FURTHER INFORMATION CONTACT: For clarification of content or information regarding a request for a delegation of authority, please contact Aluanda R. Drain, Associate Administrator, Office of Civil Rights, 202-501-0767, or by email at aluanda.drain@gsa.gov. For information pertaining to status or publication schedules, contact the Regulatory Secretariat Division at 202-501-4755 or GSARegSec@gsa.gov. Please cite the Notification of Rescission of Nondiscrimination Clarification in the Federal Workplace in the subject line.

SUPPLEMENTARY INFORMATION: On August 18, 2016, GSA issued a bulletin titled “Nondiscrimination Clarification in the Federal Workplace” (81 FR 55148, as corrected at 81 FR 63134, September 14, 2016). This bulletin provided guidance on the interpretation of the prohibition against sex discrimination under various Federal civil rights laws including Title VII of the Civil Rights Act of 1964 (Title VII), as amended, and Title IX of the Education Amendments Act of 1973, (Title IX) as amended. In particular, the Bulletin concludes that sex discrimination under relevant Federal laws also included discrimination based on gender identity and gender status. Pursuant to E.O. 14168 “Defending Women from Gender Ideology Extremism and Restoring Biological Truth to the Federal Government” (90 FR 8615, January 30, 2025), GSA is now rescinding that bulletin.

E.O. 14168 states that gender ideology embraces the belief that there are genders disconnected from the sex that one is assigned at birth. Accordingly, the E.O. directs agencies to promptly remove all statements, policies, regulations, forms, communications, or other internal and external messages that promote or otherwise inculcate gender ideology, and shall cease issuing such statements, policies, regulations, forms, communications or other messages. Additionally, the referenced Bulletin is inconsistent with E.O. 14168 in that it not only considers Title VII and Title IV to protect gender identity, but it also cites support in several cases issued by the U.S. Equal Employment Opportunity Commission upholding the use of restrooms based on gender identity. Therefore, the bulletin must be rescinded to bring GSA-controlled buildings into alignment with the principles of E.O. 14168 declaring that it is the Policy of the United States to recognize only two sexes, male and female.

Larry Allen,
Associate Administrator, Office of Government-wide Policy, U.S. General Services Administration.

[FR Doc. 2025-08129 Filed 5-8-25; 8:45 am]

BILLING CODE 6820-34-P